NUCLEAR REGULATORY COMMISSION

Sunshine Federal Register Notice

Date: Weeks of January 8, 15, 22, 29, February 5, 12, 2007.

Place: Commissioners' Conference Room, 11555 Rockville Pike, Rockville, Maryland.

Status: Public and Closed.

Matters to be Considered:

Week of January 8, 2007

Wednesday, January 10, 2007.

9:30 a.m.

Briefing on Browns Ferry Unit 1 Restart (Public Meeting) (Contact: Catherine Haney, 301-415-1453).

This meeting will be webcast live at the Web address— http://www.nrc.gov.

Thursday, January 11, 2007.

1:25 p.m.

Affirmation Session (Public Meeting) (Tentative).

a. Final Rulemaking to Revise 10 CFR 73.1, Design Basis Threat (DBT) Requirements (Tentative).

b. Entergy Nuclear Vermont Yankee, LLC, & Entergy Nuclear Operations, Inc. Reconsid'n denied (Oct. 30, 2006) (Tentative).

c. Entergy Nuclear Operations, Inc. (Pilgrim Nuclear Power Station), Intervenor Pilgrim Watch's Appeal of LBP-06-23 (Ruling on Standing and Contentions) (Tentative).

d. Entergy Nuclear Vermont Yankee, LLC, & Entergy Nuclear Operations, Inc. Generation Company & Entergy Nuclear Operations, Inc. (Pilgrim Nuclear Power Station), LBP-06-23 (10/16/06) (Tentative).

1:30 p.m.

Periodic Briefing on New Reactor Issues (Public Meeting) (Contact: Donna Williams, 301-415-1322).

This meeting will be webcast live at the Web address— http://www.nrc.gov.

Week of January 15, 2007—Tentative

There are no meetings scheduled for the Week of January 15, 2007.

Week of January 22, 2007—Tentative

Tuesday, January 23, 2007.

1:30 p.m.

Joint Meeting with Federal Energy Regulatory Commission on Grid Reliability (Public Meeting) (Contact: Mike Mayfield, 301-415-0561).

This meeting will be webcast live at the Web address— http://www.nrc.gov.

Week of January 29, 2007—Tentative

Wednesday, January 31, 2007.

9:30 a.m.

Discussion of Security Issues (Closed—Ex. 1 & 3). To be held at Department of Homeland Security Headquarters, Washington, DC.

Thursday, February 1, 2007.

9:30 a.m.

Discussion of Management Issues (Closed—Ex. 2).

1:30 p.m.

Briefing on Strategic Workforce Planning and Human Capital Initiatives (Public Meeting) (Contact: Mary Ellen Beach, 301-415-6803).

This meeting will be webcast live at the Web address— http://www.nrc.gov.

Week of February 5, 2007—Tentative

There are no meetings scheduled for the Week of February 5, 2007.

Week of February 12, 2007—Tentative

Thursday, February 15, 2007.

9:30 a.m.

Briefing on Office of Chief Financial Officer (OCFO) Programs, Performance, and Plans (Public Meeting) (Contact: Edward New, 301-415-5646).

This meeting will be webcast live at the Web address— http://www.nrc.gov.

* * * * *

* The schedule for Commission meetings is subject to change on short notice. To verify the status of meetings call (recording)—(301) 415-1292. Contact person for more information: Michelle Schroll, (301) 415-1662.

* * * * *

Additional Information: By a vote of 5-0 on December 13, 2006, the Commission determined pursuant to U.S.C. 552b(e) and 9.107(a) of the Commission's rules that “Discussion of Management Issues (Closed-Ex.2)” be held December 14, 2006, and on less than one week's notice to the public.

Affirmation of “Entergy Nuclear Operations, Inc. (Pilgrim Nuclear Power Station), Intervenor Pilgrim Watch's Appeal of LBP-06-23 (Ruling on Standing and Contentions)” tentatively scheduled for Thursday, January 4, 2007, at 12:55 p.m. has been rescheduled tentatively on Thursday, January 11, 2007, at 1:25 p.m.

* * * * *

The NRC Commission Meeting Schedule can be found on the Internet at: http://www.nrc.gov/what-we-do/policy-making/schedule.html

* * * * *

The NRC provides reasonable accommodation to individuals with disabilities where appropriate. If you need a reasonable accommodation to participate in these public meetings, or need this meeting notice or the transcript or other information from the public meetings in another format (e.g. braille, large print), please notify the NRC's Disability Program Coordinator, Deborah Chan, at 301-415-7041, TDD: 301-415-2100, or by e-mail at DLC@nrc.gov. Determinations on requests for reasonable accommodation will be made on a case-by-case basis.

* * * * *

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: January 3, 2007.
R. Michelle Schroll,
Office of the Secretary.

[FR Doc. 07-22 Filed 1-4-07; 10:01 am]

BILLING CODE 7590-01-P